DEPARTMENT OF COMMERCE

International Trade Administration

[A-570-160]

2,4-Dicholorphenoxyacetic Acid From the People's Republic of China: Final Affirmative Determination of Sales at Less Than Fair Value

AGENCY: Enforcement and Compliance, International Trade Administration, Department of Commerce.

SUMMARY: The U.S. Department of Commerce (Commerce) determines that 2,4-dicholorphenoxyacetic acid (2,4-D) from the People's Republic of China (China) is being, or is likely to be, sold in the United States at less than fair value (LTFV). The period of investigation (POI) is July 1, 2023, through December 31, 2023.

DATES: Applicable April 7, 2025.

FOR FURTHER INFORMATION CONTACT: Matthew Palmer, AD/CVD Operations, Office III, Enforcement and Compliance, International Trade Administration, U.S. Department of Commerce, 1401 Constitution Avenue NW, Washington, DC 20230; telephone: (202) 482-1678.

SUPPLEMENTARY INFORMATION:

Background

On November 14, 2024, Commerce published its Preliminary Determination in the in the Federal Register and invited interested parties to comment.¹ For a complete description of the events that followed the Preliminary Determination, see the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See 2,4-Dichlorophenoxyacetic Acid from the People's Republic of China: Preliminary Affirmative Determination of Sales at Less Than Fair Value, Postponement of Final Determination, and Extension of Provisional Measures, 89 FR 89963 (November 14, 2024) (Preliminary Determination), and accompanying Preliminary Decision Memorandum (PDM).

² See Memorandum, “Issues and Decision Memorandum for the Final Affirmative Determination in the Less-Than-Fair-Value Investigation of 2,4-Dicholorphenoxyacetic Acid from the People's Republic of China,” dated concurrently with, and hereby adopted by, this notice (Issues and Decision Memorandum).

Scope of the Investigation

The product covered by this investigation is 2,4-D from China. For a complete description of the scope of this investigation, see Appendix I.

Scope Comments

We received no comments from interested parties on the scope of the investigation as it appeared in the Preliminary Determination. Therefore, we made no changes to the scope of the investigation from that published in the Preliminary Determination for the Final Determination.

Verification

As provided in section 782(i) of the Tariff Act of 1930, as amended (the Act), Commerce conducted verification of the sales and factors of production information submitted by Thai Harvest Ltd. (Thai Harvest).³ We used standard verification procedures, including an examination of relevant sales and accounting records, and original source documents provided by Thai Harvest.

³ See Memorandum, “Verification of Thai Harvest Ltd.,” dated January 28, 2025.

Analysis of Comments Received

All issues raised in the case and rebuttal briefs submitted by interested parties in this investigation are addressed in the Issues and Decision Memorandum. A list of the issues addressed in the Issues and Decision Memorandum is attached to this notice as Appendix II.

Changes Since the Preliminary Determination

Based on a review of the record and comments received from interested parties regarding the Preliminary Results, and in consideration of Commerce's verification findings, we determine that Thai Harvest's submitted information is incomplete and unreliable, warranting the application of facts available pursuant to section 776(a) of the Act. Further, due to the company's failure to act to the best of its ability, we find that Thai Harvest has significantly impeded Commerce's review and that application of an adverse inference (AFA) is warranted pursuant to section 776(b) of the Act. Accordingly, as Commerce determines that Thai Harvest's responses in this proceeding are unverifiable and the application of AFA appropriate, we conclude that the respondent did not demonstrate eligibility to qualify for a separate rate in this review and, thus, is considered a part of the China-wide entity for the final determination.⁴ There were no additional changes to Commerce's Preliminary Determination.

⁴ For a full description of these changes, see the Issues and Decision Memorandum.

China-Wide Entity and Use of AFA

In this final determination, consistent with the Preliminary Determination,⁵ Commerce continues to find that the use of facts otherwise available, with adverse inferences, is warranted in determining the dumping rate for the China-wide entity, pursuant to sections 776(a) and (b) of the Act. There is no new information on the record that would cause us to reconsider our decision in the Preliminary Determination. Thus, we made no changes to our analysis or to the China-wide entity's dumping margin for the final determination. For a full description of the methodology underlying Commerce's final determination, see the Issues and Decision Memorandum.

⁵ See Preliminary Determination PDM at 11-13.

Combination Rates

In the Initiation Notice,⁶ Commerce stated that it would calculate producer/exporter combination rates for the respondents that are eligible for a separate rate in this investigation. Policy Bulletin 05.1 describes this practice.⁷ In this investigation, we preliminarily calculated producer/exporter combination rates for the sole entity that was found to be eligible for a separate rate (i.e., Thai Harvest). However, as explained above, we determine that Thai Harvest is no longer eligible for a separate rate in this final determination and, as a result, all entities are now found to be part of the China-wide entity. As a result, Commerce had no need to calculate producer/exporter combination rates for this final determination.

⁶ See Initiation Notice, 89 FR at 89963.

⁷ See Enforcement and Compliance's Policy Bulletin No. 05.1, regarding, “Separate-Rates Practice and Application of Combination Rates in Antidumping Investigations involving Non-Market Economy Countries,” (April 5, 2005) (Policy Bulletin 05.1), available on Commerce's website at https://access.trade.gov/Resources/policy/bull05-1.pdf.

Final Determination

Commerce determines that the following estimated weighted-average dumping margin exists for the period, July 1, 2023, through December 31, 2023:

Producer/exporter | Weighted-average dumping margin (percent) | Cash deposit rate (adjusted for subsidy offsets) (percent)
China-Wide Entity ⁸ | * 127.21 | * 126.58
* Rate based on facts available with adverse inferences.

Disclosure

⁸ We continue to determine that the application of facts available with an adverse inference is warranted with respect to mandatory respondent Shandong Weifang Rainbow Chemical Co., Ltd. (Weifang Rainbow). In addition, we find that the application of facts available with an adverse inference is warranted with respect to the other mandatory respondent, Thai Harvest. Accordingly, we are not granting a separate rate to either Weifang Rainbow or Thai Harvest and consider the respondents to be part of the China-wide entity.

Normally, Commerce discloses to interested parties the calculations performed in connection with a final determination within five days of its public announcement or, if there is no public announcement, within five days of the date of publication of this notice in accordance with 19 CFR 351.224(b). However, because Commerce applied AFA to the mandatory respondents in this investigation in accordance with section 776 of the Act, and the applied AFA rate is based solely on the Petition, there are no calculations to disclose.

Continuation of Suspension of Liquidation

In accordance with section 735(c)(1)(B) of the Act, we will instruct U.S. Customs and Border Protection (CBP) to continue to suspend liquidation of all appropriate entries of subject merchandise, as described in Appendix I of this notice, which were entered, or withdrawn from warehouse, for consumption, on or after November 14, 2024, the date of publication of the Preliminary Determination in the Federal Register. These suspension of liquidation instructions will remain in effect until further notice.

Pursuant to section 735(c)(1)(B)(ii) of the Act and 19 CFR 351.210(d), upon publication of this notice, we will instruct CBP to require a cash deposit for estimated antidumping duties for such entries as follows: (1) for all Chinese exporters of subject merchandise, the cash deposit rate will be equal to the estimated dumping margin established for the China-wide entity; and (2) for all third country exporters of subject merchandise, the cash deposit rate is also the cash deposit rate applicable to the China-wide entity. These suspension of liquidation instructions will remain in effect until further notice.

To determine the cash deposit rate, Commerce normally adjusts the estimated weighted-average dumping margin by the amount of export subsidies countervailed in a companion countervailing duty (CVD) proceeding, when CVD provisional measures are in effect. Accordingly, where Commerce has made a final affirmative determination for countervailable export subsidies, Commerce offsets the estimated weighted-average dumping margin by the appropriate CVD rate. Commerce has continued to adjust the cash deposit rate for export subsidies in the companion CVD investigation by the appropriate export subsidy rate as indicated in the above chart. However, the suspension of liquidation of provisional measures in the companion CVD case has been discontinued; ⁹ therefore, we are not instructing CBP to collect cash deposits based upon the adjusted estimated weighted-average dumping margin for those export subsidies at this time.

⁹ See 2,4-Dichlorophenoxyacetic Acid From the People's Republic of China: Preliminary Affirmative Countervailing Duty Determination and Alignment of Final Determination With Final Antidumping Duty Determination, 89 FR 74906 (September 13, 2024); see also section 703(d) of the Act, which states that the provisional measures may not be in effect for more than four months, which in the companion CVD case is 120 days after the publication of the preliminary determination, or January 11, 2025 (i.e., last day provisional measures are in effect).

U.S. International Trade Commission (ITC) Notification

In accordance with section 735(d) of the Act, Commerce will notify the ITC of its final affirmative determination of sales at LTFV. Because Commerce's final determination is affirmative, in accordance with section 735(b)(2) of the Act, the ITC will determine, within 45 days, whether the domestic industry in the United States is materially injured, or threatened with material injury, by reason of imports of 2,4-D. If the ITC determines that material injury or threat of material injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order (APO)

This notice will serve as the only reminder to parties subject to an APO of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This determination is issued and published in accordance with sections 735(d) and 777(i)(1) of the Act, and 19 CFR 351.210(c).

Dated: March 31, 2025.
Christopher Abbott,
Deputy Assistant Secretary for Policy and Negotiations, performing the non-exclusive functions and duties of the Assistant Secretary for Enforcement and Compliance.

Appendix I

Scope of the Investigation

The merchandise covered by this investigation is 2,4-dichlorophenoxyacetic acid (2,4-D) and its derivative products, including salt and ester forms of 2,4-D. 2,4-D has the Chemical Abstracts Service (CAS) registry number of 94-75-7 and the chemical formula C8H6 Cl2O3.

Salt and ester forms of 2,4-D include 2,4-D sodium salt (CAS 2702-72-9), 2,4-D diethanolamine salt (CAS 5742-19-8), 2,4-D dimethyl amine salt (CAS 2008-39-1), 2,4-D isopropylamine salt (CAS 5742-17-6), 2,4-D tri-isopropanolamine salt (CAS 3234180-3), 2,4-D choline salt (CAS 1048373-72-3), 2,4-D butoxyethyl ester (CAS 1929-733), 2,4-D 2- ethylhexylester (CAS 1928-43-4), and 2,4-D isopropylester (CAS 94-11-1). All 2,4-D, as well as the salt and ester forms of 2,4-D, is covered by the scope irrespective of purity, particle size, or physical form.

The conversion of a 2,4-D salt or ester from 2,4-D acid, or the formulation of nonsubject merchandise with the subject 2,4-D, its salts, and its esters in the country of manufacture or in a third country does not remove the subject 2,4-D, its salts, or its esters from the scope. For any such formulations, only the 2,4-D, 2,4-D salt, and 2,4-D ester components of the mixture is covered by the scope of the investigations. Formulations of 2,4-D are products that are registered for end-use applications with the Environmental Protection Agency and contain a dispersion agent.

The country of origin of any 2,4-D derivative salt or ester is determined by the country in which the underlying 2,4-D acid is produced. 2,4-D, its salts, and its esters are classified under Harmonized Tariff Schedule of the United States (HTSUS) subheading 2918.99.2010. Subject merchandise, including the abovementioned formulations, may also be classified under HTSUS 2922.12.0001, 2921.11.0000, 2921.19.6195, 2922.19.9690, 3808.93.0500, and 3808.93.1500. The HTSUS subheadings and CAS registry numbers are provided for convenience and customs purposes. The written description of the scope of the investigation is dispositive.

Appendix II

List of Topics Discussed in the Issues and Decision Memorandum

I. Summary

II. Background

III. Changes Since the Preliminary Determination

IV. Application of Facts Available and Use of Adverse Inferences

V. Discussion of the Issue

Comment 1: Whether to Apply Total Adverse Facts Available (AFA) to Thai Harvest Ltd. (Thai Harvest)

Comment 2: Whether Thai Harvest is Eligible for a Separate Rate

Comment 3: Whether to Grant Thai Harvest's Byproduct Offset

Comment 4: Whether to Continue to Use the Republic of Türkiye (Türkiye) as the Surrogate Country

Comment 5: Whether to Revise the Surrogate Value (SV) for Jiangxi Tianyu Chemical Co., Ltd. (Jiangxi Tianyu)'s Liquid Sodium Hydroxide Input

Comment 6: Whether to Use the Concentration-Adjusted ChemAnalyst Data to Value Jiangxi Tianyu's Chloroacetic Acid Input

Comment 7: Whether to Use the Average Market-Economy Unit Price for the Phenol SV Calculation

Comment 8: Whether to Continue to Apply AFA to Shandong Weifang Rainbow Chemical Co., Ltd. (Weifang Rainbow)

VI. Recommendation

[FR Doc. 2025-05886 Filed 4-4-25; 8:45 am]

BILLING CODE 3510-DS-P